DEPARTMENT OF HEALTH AND HUMAN SERVICES

Administration for Children and Families

Request for Public Comment on the Reporting Period for the National Child Abuse and Neglect Data System

AGENCY: Administration on Children, Youth and Families (ACYF), ACF, DHHS.

ACTION: Notice of request for public comment.

SUMMARY: The Children's Bureau, in the Administration on Children, Youth and Families administers the National Child Abuse and Neglect Data System (NCANDS), through which States collect and report data on child maltreatment. The Children's Bureau (CB) uses these data as a basis for States' conformity with title IV-B and IV-E State plan requirements as determined by a Child and Family Services (CFS) Review, among other purposes. States reviewed in 2001 noted a number of concerns when NCANDS data were used in this manner. Specifically, States and ACF experienced difficulty with interpreting NCANDS data because they are reported on a calendar year basis, while the reporting period for the other primary data source for the CFS Reviews, the Adoption and Foster Care Analysis and Reporting System (AFCARS), is a Federal fiscal year. CB is proposing a change in the NCANDS reporting period to address this issue. The Administration on Children and Families invites comments from States and other interested parties regarding the NCANDS reporting period.

DATES: Written comments must be submitted to the office listed in the ADDRESSES section below on or before August 28, 2002.

ADDRESSES: E-mail written comments to John Gaudiosi, Children's Bureau, at jgaudiosi@acf.hhs.gov.

FOR FURTHER INFORMATION CONTACT: John Gaudiosi, Mathematical Statistician, Children's Bureau, jgaudiosi@acf.hhs.gov or 202-205-8625.

SUPPLEMENTARY INFORMATION:

NCANDS Background

Public Law 100-294 amended the Child Abuse Prevention and Treatment Act (CAPTA) [42 U.S.C. 5101 et seq.] and directed the Secretary of the Department of Health and Human Services to establish a national data collection and analysis program on child abuse and neglect. The Department responded by establishing the NCANDS as a voluntary national reporting system. States report aggregate summary data and detailed case-level such as the number of children abused and neglected, the types of abuse, the number of fatalities due to maltreatment, and the types of services provided to address maltreatment and prevent future abuse. Public Law 104-235 further amended CAPTA to establish that States that participate in NCANDS and receive the Basic State Grant would work with the Secretary to provide, to the maximum extent practicable, a report that includes several data items, including the number of children reported as abused or neglected; the number that did or did not receive services; the number removed from their families during the year; the number of families that received preventive services; the number of deaths resulting from child abuse or neglect; and others [42 U.S.C. 5106a]. The Department incorporated these requirements into the NCANDS.

ACF uses NCANDS data for a variety of purposes, including:

• An annual publication on child maltreatment;

• Child Welfare Outcomes Annual Report to Congress;

• The Child and Family Services Reviews;

• Responding to data requests from other Federal agencies concerning child abuse and neglect; and

• Research activities.

In FY 2000, 17 States submitted aggregate data and 34 States submitted case-level data. The recent increases in the number of States submitting case-level data is linked strongly to ACF's use of the NCANDS data to evaluate and report child welfare outcomes nationally.

Interpreting Child Welfare Outcomes Using NCANDS Data

Although CB has used NCANDS data for more than 10 years to provide a national picture of child maltreatment, the use of NCANDS data to determine child welfare outcomes and State compliance with Federal child welfare requirements is a recent event. The CFS Reviews (see 45 CFR 1355.31-1355.37) measure compliance with the State plan requirements under titles IV-B and IV-E of the Social Security Act by evaluating child and family outcomes. As part of these reviews, CB provides each State under reviews with data profiles generated from data submitted to NCANDS and AFCARS. States report detailed data to AFCARS on children removed from their homes and placed in foster care and children adopted within a State with the involvement of the State child welfare agency.

Data from both AFCARS and NCANDS must be used simultaneously to evaluate child welfare outcomes, because the majority of families and children who are reported in AFCARS are also included in NCANDS. Since the reviews are comprehensive and cover child protective services, foster care, adoption, family preservation, family support and independent living, the only means of obtaining critical national data on children and families for some of these programs is to use the NCANDS and AFCARS data together. These data are used to help States and the Federal government understand what happens to children and families as they move through State child welfare systems, to identify strengths and areas needing improvement in State child welfare systems, and to determine the State's conformity with applicable requirements.

As currently configured, using NCANDS and AFCARS data together presents challenges to States and CB. At the November 2001 meeting of the Children's Bureau with the first 17 States that had undergone a CFS Review, States identified several challenges in using the Federal data sets to measure conformity and evaluate child welfare outcomes. One challenge noted is the reporting period. AFCARS data are based on the Federal fiscal year, on the other hand, PI-CB-98-15, issued September 19, 1998, gave States the option to submit NCANDS data using the calendar year, the Federal fiscal year, or the State fiscal year. Presently, all States now submit data on calendar year basis. As a result, States must analyze and evaluate their effectiveness in preventing child maltreatment and out-of-home placement using data sets from different time periods. Furthermore, CB has developed a national standard for the incidence of child abuse and/or neglect in foster care for the CFS Reviews using both AFCARS and NCANDS data.¹ To generate this measure, CB uses nine months of data (January through September) rather than a full year of data because of the different reporting periods. CB uses a similar measure in the Child Welfare Outcomes Annual Report to Congress that tracks State child welfare agency performance on key outcome measures.² Synchronizing the reporting periods will make the NCANDS data available three months earlier. This will enable CB to generate more timely safety profiles for the CFS Reviews and contextual data for the Child Welfare Outcomes Annual Report to Congress. CB believes changing the reporting period for NCANDS ensures the best use of the data reported by States. Since AFCARS data are used in Federal budget projections and State grant allocations,³ changing the AFCARS reporting period would significantly disrupt other priorities.

¹ See ACYF-CB-IM-01-07 for further discussion on the national standards in the CFS reviews.

² Log onto http://www.acf.dhhs.gov/programs/cb/publications/index.htm for the most recent report to Congress and a discussion of the outcome measures.

³ For instance, AFCARS data are used in determining State allotments under the Chafee Foster Care Independence Program under section 477 of the Social Security Act. AFCARS data is also used in determining whether a State qualifies for incentive payments under the Adoption Incentive Program under section 4 473A of the Social Security Act. Both programs rely on using available data that are consistent with a Federal fiscal year.

Changing the NCANDS Reporting Period to a Federal Fiscal Year

To address the above concerns, we are considering changing the NCANDS reporting period to coincide with the Federal fiscal year (October 1 through September 30). This change will make future NCANDS data inconsistent with previous years' data. However, statistical procedures can be used to make appropriate adjustments for analytic purposes, thus diminishing this disadvantage. The proposed changes for submitting NCANDS data are delineated in the table below.

Data year | CB requests data | States submit data | CB finalizes data | CB completes draft annual report
CY 2000 | March 2001 | June 15, 2001 | October 2001 | March 2002.
CY 2001 | March 2002 | June 15, 2002 | October 2002 | March 2003.
FFY 2002 (Oct. 2001-Sept. 2002) | December 2002 | March 15, 2003 | July 2003 | December 2003.
FFY 2003 (Oct. 2002-September 2003) | December 2003 | March 15, 2004 | July 2004 | December 2004.
Bold-faced text=past or current data collection schedules. Note FFY 2002 would collect October 2001-December 2001 again from the States. The March 2003 report would be considered the Annual report for 2001; the December 2003 report would be the report for 2002, etc.

ACF is interested in public comment on this issue. In particular, we invite comments regarding:

• The advantages or disadvantages of calendar year versus Federal fiscal year reporting for NCANDS data for States, particularly in interpreting child welfare outcome data

• The advantages or disadvantages of calendar year versus Federal fiscal year reporting of NCANDS data for researchers and other interested parties

• The fiscal and administrative impact on States of changing NCANDS to Federal fiscal year reporting (i.e., costs to Statewide child welfare information systems, burden of proposed submission dates, etc.)

• Other suggestions for addressing the concerns noted regarding the data reporting periods.

Dated: July 16, 2002.
Joan E. Ohl,
Commissioner, Administration on Children, Youth, and Families.

[FR Doc. 02-18377 Filed 7-26-02; 8:45 am]

BILLING CODE 4184-01-M